NATIONAL SCIENCE FOUNDATION

Sunshine Act Meetings

The National Science Board's (NSB) Committee on Science and Engineering Policy (SEP) hereby gives notice of the scheduling of a videoconference for the transaction of National Science Board business pursuant to the National Science Foundation Act and the Government in the Sunshine Act.

TIME AND DATE: Tuesday, January 21, 2025, from 2:00 p.m.-2:45 p.m. Eastern.

PLACE: The meeting will be held by videoconference through the National Science Foundation, 2415 Eisenhower Avenue, Alexandria, VA, 22314. Members of the public can observe this meeting through a YouTube livestream. The YouTube link will be available from the NSB meetings web page— https://www.nsf.gov/nsb/meetings/index.jsp.

STATUS: Open.

MATTERS TO BE CONSIDERED: Chair's opening remarks; Discussion of Detailed Narrative Outline and vote on Talent report for Indicators 2026.

CONTACT PERSON FOR MORE INFORMATION: Point of contact for this meeting is Chris Blair, cblair@nsf.gov, 703-292-7000.

Ann E. Bushmiller,
Senior Counsel to the National Science Board.

[FR Doc. 2025-01225 Filed 1-14-25; 4:15 pm]

BILLING CODE 7555-01-P